DEPARTMENT OF COMMERCE

National Oceanic and Atmospheric Administration

50 CFR Part 648

[Docket No. 210607-0122]

RIN 0648-BK55

Fisheries of the Northeastern United States; Northeast Multispecies Fishery; 2021-2023 Small-Mesh Multispecies Specifications

AGENCY: National Marine Fisheries Service (NMFS), National Oceanic and Atmospheric Administration (NOAA), Commerce.

ACTION: Proposed rule; request for comments.

SUMMARY: NMFS proposes small-mesh multispecies specifications for the 2021 fishing year, and projected specifications for fishing years 2022 and 2023, as recommended by the New England Fishery Management Council. This action also proposes changes to whiting possession limits on certain trips and would restore the in-season adjustment trigger for northern red hake. This action is necessary to establish allowable harvest levels and other management measures consistent with the most recent scientific information. This rule also informs the public of the proposed fishery specifications and provides an opportunity for comment.

DATES: Comments must be received by June 28, 2021.

ADDRESSES: You may submit comments on this document, identified by NOAA-NMFS-2021-0043, by the following method:

Electronic Submission: Submit all electronic public comments via the Federal e-Rulemaking Portal.

1. Go to https://www.regulations.gov, and enter “NOAA-NMFS-2021-0043” in the Search box;

2. Click the “Comment” icon, complete the required fields; and

3. Enter or attach your comments.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

The New England Fishery Management Council prepared a draft environmental assessment (EA) for this action that describes the proposed measures and other considered alternatives. The EA also provides an economic analysis, as well as an analysis of the biological, economic, and social impacts of the proposed measures and other considered alternatives. Copies of the specifications document, including the EA and information on the economic impacts of the proposed measures, are available upon request from Thomas A. Nies, Executive Director, New England Fishery Management Council, 50 Water Street, Newburyport, MA 01950. This document is also accessible via the internet at https://www.nefmc.org/library/2021-2023-whiting-specifications.

FOR FURTHER INFORMATION CONTACT: Cynthia Ferrio, Fishery Policy Analyst, (978) 281-9180.

SUPPLEMENTARY INFORMATION:

Background

The small-mesh multispecies fishery comprises three species of hakes that are managed as five stocks: Northern and southern silver hake; northern and southern red hake; and offshore hake. Southern silver hake and offshore hake are often grouped together for management purposes and collectively referred to as “southern whiting.” The New England Fishery Management Council manages the small-mesh multispecies fishery within the Northeast Multispecies Fishery Management Plan (FMP). This action proposes catch limit specifications for the 2021 small-mesh multispecies fishery, and projects specifications for fishing years 2022 and 2023, based on the Council's recommendations.

This action would also increase whiting (silver hake and offshore hake) possession limits on trips using gear with less than 3-in (7.62-cm) mesh from 3,500 pounds (lb) (1,588 kilograms (kg)) or 7,500 lb (3,402 kg) to 15,000 lb (6,804 kg), and restore the in-season adjustment trigger for northern red hake to 90 percent from 37.9 percent. These recommended changes reflect the most recent stock assessment information (September 2020), and are intended to increase fishing flexibility, decrease regulatory discards, and promote rebuilding of the southern red hake stock.

Proposed Specifications

This action proposes the Council's recommendations for 2021 and projected 2022-2023 small-mesh multispecies catch specifications, as well as revised management measures reduce regulatory discards. These proposed catch limits would increase annual quotas for southern whiting and both red hake stocks, and decrease the quota for northern silver hake (Table 1). Specifications for fishing years 2022 and 2023 are projected to be the same as the proposed 2021 limits.

Table 1—Proposed Small-Mesh Multispecies Specifications for Fishing Years 2021-2023 (Metric Tons), With the Percent Change in the Total Allowable Landings (TAL) From Fishing Year 2020
| Overfishing limit | Acceptable biological catch | Annual catch limit | TAL | Percent change
Northern Red Hake | N/A | 3,452 | 3,278 | 1,405 | +413
Northern Silver Hake | 39,930 | 20,410 | 19,387 | 17,457 | −34
Southern Red Hake | N/A | 1,505 | 1,429 | 422 | +89
Southern Whiting | 72,160 | 40,990 | 38,941 | 28,742 | +99

In a separate action that is currently in the rulemaking process, the Council adopted a 10-year rebuilding program for southern red hake because this stock was declared overfished in 2018. Although the rebuilding plan has not yet been implemented in a final rule, the proposed southern red hake Acceptable Biological Catch (ABC) is intended to be consistent with the Council's proposed rebuilding plan, even though the proposed quota for the species is higher than in fishing year 2020. The Council recommended an increased ABC, but at a level lower than what was recommended by its Scientific and Statistical Committee, to decrease regulatory discards and allow continued operation of the fishery while still enhancing the rebuilding potential for southern red hake.

This proposed action would also revise management measures within the small-mesh multispecies fishery to reduce discards and improve fishery operations. The Council recommends increasing the possession limit for southern whiting on trips using gear with less than 3-in (7.62-cm) mesh to 15,000 lb (6,804 kg) to reduce regulatory discards. This action also proposes that the in-season adjustment trigger for northern red hake be reset to 90 percent of the annual quota, from the current trigger of 37.9 percent. The trigger was most recently reduced in fishing year 2017 to account for annual catch overages on the stock, and has been reduced multiple times prior in fishing years 2014 and 2015 from the original 90 percent. However, catches of northern red hake have been well below specified catch limits since the large 2014 year class of new young fish entered the fishery. Thus, this change in the in-season adjustment trigger for northern red hake is intended to avoid unnecessarily restrictive in-season accountability measures on the fishery, and further reduce excessive regulatory discards.

The Council will review the projected 2022 and 2023 specifications to determine if any changes need to be made prior to their final implementation. Changes may occur if quota overages trigger accountability measures, or if new stock information results in changes to the ABC recommendations. The rebuilding plan for southern red hake that is currently undergoing review in a separate rulemaking will not change any of these proposed specifications. NMFS will publish a notice prior to the 2022 and 2023 fishing years to confirm the projected specifications or announce any necessary changes.

Classification

Pursuant to section 304(b)(1)(A) of the Magnuson Stevens Fishery Conservation and Management Act (Magnuson-Stevens Act), the NMFS Assistant Administrator has determined that this proposed rule is consistent with the Northeast Multispecies FMP, other provisions of the Magnuson-Stevens Act, and other applicable law, subject to further consideration after public comment.

The Council reviewed the proposed regulations for this action and deemed them necessary and appropriate to implement consistent with section 303(c) of the Magnuson-Stevens Act.

This proposed rule has been determined to be not significant for purposes of Executive Order 12866.

The Chief Counsel for Regulation of the Department of Commerce certified to the Chief Counsel for Advocacy of the Small Business Administration that this proposed rule, if adopted, would not have a significant economic impact on a substantial number of small entities. The factual basis for this determination is as follows.

The proposed action would impact all permitted vessels or affiliated groups that participate in small-mesh multispecies fisheries. The Council considered any business with at least one open access multispecies K permit, or other northeast multispecies permit that allows possession of hakes, in this evaluation, as well as any active entities that landed any small-mesh multispecies for commercial sale in 2019. As of June 1, 2020, NMFS had issued 798 commercial open-access (small-mesh) permits; therefore, 798 permits would be regulated by this action. According to the ownership database, there are 627 distinct business entities that hold at least one permit regulated by the proposed action, and of those 627 entities, all are engaged in commercial fishing, although 106 did not have revenues (were not active) in 2019. Of those 627 entities potentially affected by this action, 618 are categorized as small entities and 9 are categorized as large entities. It was found that on average these small businesses derive less than four percent of their total fishing income from the small-mesh multispecies fishery, and that this fishery serves as more of a supplement to their overall fishing revenue rather than the primary source.

This action, which proposes higher catch limits for most stocks and increases a whiting possession limit primarily to reduce regulatory discards, is expected to provide operational flexibility and opportunity in the fishery without increasing risk to the resource or substantially changing fishing behavior. Under this action, annual quotas would increase for southern whiting and both red hake stocks and decrease for northern silver hake. While permit holders may experience a slight positive impact from higher landings of some species throughout the course of the year, short-term landings are not expected to increase. Further, over the long-term of several years, the small increases in annual quotas will likely be negligible when balanced with the decreased access to northern silver hake. Also, the proposed changes to management measures, such as the whiting trip limit and northern red hake trigger, are primarily intended to reduce regulatory discards and prevent over-restriction of stable stocks in the fishery. These measures are expected to allow normal operation of the fishery to continue further into the year, and are not expected to change fishing behavior overall.

The Council's analyses indicate that the overall economic impact of proposed action is expected to be negligible to slightly positive, and that the proposed specifications are not expected to substantially change fishing effort, risk of overfishing, prices/revenues, or fishery behavior. The proposed measures are intended to provide operational flexibility and fishing opportunities, while preventing overharvest of the stocks. Therefore, the Council concluded, and NMFS agrees, that this action would not have a significant economic impact on a substantial number of small businesses. As a result, an initial regulatory flexibility analysis is not required and none has been prepared.

This action would not establish any new reporting or record-keeping requirements.

This proposed rule contains no information collection requirements under the Paperwork Reduction Act of 1995.

List of Subjects in 50 CFR Part 648

Fisheries, Fishing, Reporting and recordkeeping requirements.

Dated: June 7, 2021.
Samuel D. Rauch III,
Deputy Assistant Administrator for Regulatory Programs, National Marine Fisheries Service.

For the reasons set out in the preamble, 50 CFR part 648 is proposed to be amended as follows:

PART 648—FISHERIES OF THE NORTHEASTERN UNITED STATES

1. The authority citation for part 648 continues to read as follows:

Authority: 16 U.S.C. 1801 et seq.

2. In § 648.86, revise paragraph (d)(1)(i), and remove and reserve paragraph (d)(1)(ii) to read as follows:

§ 648.86 NE Multispecies possession restrictions.

* * * * *

(d) * * *

(1) * * *

(i) Vessels possessing on board or using nets of mesh size smaller than 3 in (7.62 cm). Owners or operators of a vessel may possess and land not more than 15,000 lb (6,804 kg) of combined silver hake and offshore hake, if either of the following conditions apply:

(A) The mesh size of any net or any part of a net used by or on board the vessel is smaller than 3 inches (7.62 cm), as applied to the part of the net specified in paragraph (d)(1)(iv) of this section, as measured in accordance with § 648.80(f); or

(B) The mesh size of any net or part of a net on board the vessel not incorporated into a fully constructed net is smaller than 3 inches (7.62 cm), as measured by methods specified in § 648.80(f). “Incorporated into a fully constructed net” means that any mesh smaller than 3 inches (7.62 cm) that is incorporated into a fully constructed net may occur only in the part of the net not subject to the mesh size restrictions specified in paragraph (d)(1)(iv) of this section, and the net into which the mesh is incorporated must be available for immediate use.

* * * * *

3. In § 648.90, revise paragraph (b)(5)(iii) to read as follows:

§ 648.90 NE multispecies assessment, framework procedures and specifications, and flexible area action system.

* * * * *

(b) * * *

(5) * * *

(iii) Small-mesh multispecies in-season adjustment triggers. The small-mesh multispecies in-season accountability measure adjustment triggers are as follows:

Species | In-season adjustment trigger (percent)
Northern Red Hake | 90
Northern Silver Hake | 90
Southern Red Hake | 40.4
Southern Silver Hake | 90

* * * * *

[FR Doc. 2021-12282 Filed 6-10-21; 8:45 am]

BILLING CODE 3510-22-P